DEPARTMENT OF EDUCATION

National Assessment Governing Board; Meeting

AGENCY: Department of Education, National Assessment Governing Board.

ACTION: Notice of open meeting and partially closed meetings.

SUMMARY: The notice sets forth the schedule and proposed agenda of a forthcoming meeting of the National Assessment Governing Board. This notice also describes the functions of the Board. Notice of this meeting is required under Section 10(a)(2) of the Federal Advisory Committee Act. This document is intended to notify members of the general public of their opportunity to attend. Individuals who will need special accommodations in order to attend the meeting (i.e.; interpreting services, assistive listening devices, materials in alternative format) should notify Munira Mwalimu at 202-357-6938 or at Munira.Mwalimu@ed.gov no later than November 5, 2007. We will attempt to meet requests after this date, but cannot guarantee availability of the requested accommodation. The meeting site is accessible to individuals with disabilities.

DATES: November 15-17, 2007.

Times

November 15

Committee Meeting

Executive Committee: Open Session—4 p.m. to 4:30 p.m.; Closed Session—4:30 p.m. to 6 p.m.

November 16

Full Board: Open Session—8:30 a.m. to 9:30 a.m..; Closed Session—12:45 p.m. to 2:15 p.m.; Open Session—2:15 p.m. to 3:30 p.m.; Closed Session—3:30 p.m. to 4 p.m.

Committee Meetings

Assessment Development Committee: Closed Session—9:30 a.m. to 11:30 a.m.; Open Session—11:30 a.m. to 12:30 p.m.;

Committee on Standards, Design and Methodology: Open Session—9:30 a.m. to 12:30 p.m.;

Reporting and Dissemination Committee: Open Session—9:30 a.m. to 12:30 p.m.;

November 17

Nominations Committee: Closed Session—7:45 a.m. to 8:45 a.m.

Full Board: Open Session—9 a.m. to 12 p.m.

Location: The Ritz Carlton Tysons Corner, 1700 Tysons Boulevard, McLean, VA 22102.

FOR FURTHER INFORMATION CONTACT: Munira Mwalimu, Operations Officer, National Assessment Governing Board, 800 North Capitol Street, NW., Suite 825, Washington, DC, 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment objectives, developing appropriate student achievement levels for each grade and subject tested, developing guidelines for reporting and disseminating results, and developing standards and procedures for interstate and national comparisons.

On November 15, the Executive Committee will meet in closed session from 4:30 p.m. to 6 p.m. to receive a briefing from the National Center for Education Statistics on contractor costs and contract options under National Assessment of Educational Progress (NAEP) contracts awarded in Fiscal Year 2007, covering the 2008-2012 assessment years. The discussion of contractor costs and contract options will address the implications for congressionally mandated goals and adherence to Board policies on NAEP assessments. This part of the meeting must be conducted in closed session because public discussion of this information would disclose proprietary information submitted by the successful contractors and have an adverse effect on the confidentiality of the contracting process. The meeting must therefore be conducted in closed session as disclosure of technical and cost data would significantly impede implementation of the NAEP contract awards, and is therefore protected by exemption 9(B) of section 552b(c) of Title 5 U.S.C.

On November 16, the full Board will meet in open session from 8:30 a.m. to 9:15 a.m. The Board will approve the agenda and new Board members will be administered the Oath of Office. The Governing Board will receive a report from the Executive Director and hear an update on the work of the National Center for Education Statistics (NCES).

The Assessment Development Committee will meet in closed session on November 16 from 9:30 a.m. to 11:30 a.m. to review secure science pilot items for grades 4, 8, and 12 for the 2009 National Assessment of Educational Progress (NAEP). The meeting must be conducted in closed session as disclosure of proposed test items for the science pilot would significantly impede implementation of the NAEP program, and is therefore protected by exemption 9(B) of section 552b(c) of Title 5 U.S.C. From 11:30 a.m. to 12:30 p.m., the Committee will meet in open session.

On November 16, the Committee on Standards, Design and Methodology, and the Reporting and Dissemination Committee will meet in open session from 9:30 a.m. to 12:30 p.m.

On November 16, the full Board will meet in closed session from 12:45 p.m. to 2:15 p.m. to receive a briefing on results of the 2007 NAEP Trial Urban District Assessment (TUDA) Reading and Mathematics Report Card. The Governing Board will be provided with embargoed data on the report that cannot be discussed in an open meeting prior to their official release. The meeting must therefore be conducted in closed session as premature disclosure of data would significantly impede implementation of the NAEP program, and is therefore protected by exemption 9(B) of section 552b(c) of Title 5 U.S.C.

On November 16 from 2:15 p.m. to 3:15 p.m. the Board will receive an update from the Chair of the Technical Panel on 12th Grade Preparedness Research. Thereafter, Board members will receive a closed session briefing on Ethics from the Office of General Counsel from 3:30 p.m. to 4 p.m.

On November 17, the Nominations Committee will meet in closed session from 7:45 a.m. to 8:45 a.m. to review and discuss confidential information regarding nominees received for Board vacancies for terms beginning on October 1, 2008. These discussions pertain solely to internal personnel rules and practices of an agency and will disclose information of a personal nature where disclosure would constitute an unwarranted invasion of personal privacy. As such, the discussions are protected by exemptions 2 and 6 of section 552b(c) of Title 5 U.S.C.

The full Board will meet in open session on November 17 from 9 a.m. to 12 p.m. From 9 a.m. to 10 a.m., the Board will receive a briefing on developing NAEP Frameworks and Test Questions. Board actions on policies and Committee reports are scheduled to take place between 10:15 a.m. and 12 p.m., upon which the November 17, 2007 session of the Board meeting will adjourn.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. Eastern Standard Time, Monday through Friday.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: October 30, 2007.
Charles E. Smith,
Executive Director, National Assessment Governing Board, U.S. Department of Education.

[FR Doc. E7-21678 Filed 11-2-07; 8:45 am]

BILLING CODE 4000-01-P